DEPARTMENT OF HOMELAND SECURITY

National Communications System

AGENCY: National Communications System (NCS), DHA.

ACTION: Notice of closed meeting.

SUMMARY: A meeting of the President's National Security Telecommunications Advisory Committee (NSTAC) will be held via conference call on Thursday, March 4, 2004, from 1 p.m. to 2 p.m. The NSTAC is subject to the Federal Advisory Committee Act (FACA), Public Law 92-463, as amended (5 U.S.C. App. II.) The conference call will be closed to the public to allow for discussion of:

• Financial Services Infrastructure Update.

Since discussion regarding vulnerabilities of the financial services infrastructure could reveal company proprietary information, it is necessary to close this meeting. Closing this meeting is consistent with 5 U.S.C. 552(b)(4).

FOR FURTHER INFORMATION CONTACT: Call Ms. Kiesha Gebreyes, (703) 607-6134, or write the Manager, National Communications System, 701 South Court House Road, Arlington, Virginia 22204-2198.

Peter M. Fonash,
Federal Register Liaison Officer, National Communications System.

[FR Doc. 04-3829 Filed 2-20-04; 8:45 am]

BILLING CODE 4410-10-M